DEPARTMENT OF TRANSPORTATION

Federal Aviation Administration

14 CFR Part 71

[Airspace Docket No. 02-ACE-8]

Establishment of Class E2 Airspace and Modification of Existing Class E5 Airspace; Ainsworth, NE

AGENCY: Federal Aviation Administration (FAA), DOT.

ACTION: Final rule.

SUMMARY: This action establishes Class E airspace designated as a surface area (E2) for Ainsworth Municipal Airport, NE and modifies Class E airspace extending upward from 700 feet above the surface of the earth (E5) at Ainsworth, NE. Class E2 and additional E5 controlled airspace are needed to contain aircraft executing instrument flight procedures and provide a safer operating environment at Ainsworth, NE. This action establishes Class E airspace designated as a surface area and modifies Class E airspace extending upward from 700 feet above the surface of the earth at Ainsworth, NE.

EFFECTIVE DATE: 0901 UTC, February 20, 2003.

FOR FURTHER INFORMATION CONTACT: Brenda Mumper, Air Traffic Division, Airspace Branch, ACE-520A, DOT Regional Headquarters Building, Federal Aviation Administration, 901 Locust, Kansas City, MO 64106; telephone: (816) 329-2524.

SUPPLEMENTARY INFORMATION:

History

On Friday, August 23, 2002, the FAA proposed to amend 14 CFR part 71 to establish and modify Class E airspace at Ainsworth, NE (67 FR 21576). The proposal was to establish Class E2 and Class E4 airspace and to modify Class E5 airspace at Ainsworth, NE. A correction to this proposal was issued on Wednesday, November 13, 2002, that combined proposed Class E2 and Class E4 airspace areas under the single heading of Class E2 (67 FR 28832). Interested parties were invited to participate in this rulemaking proceeding by submitting written comments on the proposal to the FAA. No comments objecting to the proposal were received. Class E2 airspace designations are published in paragraph 6002 and Class E5 airspace designations in paragraph 6005, of FAA Order 7400.9K, dated August 30, 2002, and effective September 16, 2002, which is incorporated by reference in 14 CFR 71.1. The Class E airspace designations listed in this document will be published subsequently in the Order.

The Rule

This amendment to Part 71 of the Federal Aviation Regulations (14 CFR Part 71) establishes and modifies Class E airspace at Ainsworth, NE to provide adequate controlled airspace for aircraft executing instrument flight procedures. The areas will be depicted on appropriate aeronautical charts.

The FAA has determined that this regulation only involves an established body of technical regulations for which frequent and routine amendments are necessary to keep them operationally current. Therefore, this regulation—(1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (Air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g); 40103, 40113, 40120; E.O. 10854, 24 FR 9565, 3 CFR, 1959-1963 Comp., p. 389.

§ 71.1 [Amended]

2. The incorporation by reference in 14 CFR 71.1 of the Federal Aviation Administration Order 7400.9K, Airspace Designations and Reporting Points, dated August 30, 2002, and effective September 16, 2002, is amended as follows:

Paragraph 6002 Class E Airspace Designated as Surface Areas.

* * * * *

ACE NE E2 Ainsworth, NE

Ainsworth Municipal Airport, NE

(Lat. 42°34′45″ N., long. 99°59′35″ W.)

Within a 4.3-mile radius of Ainsworth Municipal Airport; within 2.4 miles each side of the Ainsworth VOR/DME 197° radial extending from the 4.3-mile radius of Ainsworth Municipal Airport to 7 miles south of the airport; and within 2.4 miles each side of the Ainsworth VOR/DME 348° radial extending from the 4.3-mile radius of Ainsworth Municipal Airport to 7 miles north of the airport.

* * * * *

Paragraph 6005 Class E Airspace Areas Extending Upward from 700 feet or More Above the Surface of the Earth.

* * * * *

ACE NE E5 Ainsworth, NE [Revised]

Ainsworth Municipal Airport, NE

(Lat. 42°34′45″ N., long. 99°59′35″ W.)

That airspace extending upward from 700 feet above the surface within a 7.4-mile radius of Ainsworth Municipal Airport and within 3.9 miles each side of the 179° bearing from the airport extending from the 7.4-mile radius to 9.6 miles south of the airport.

* * * * *

Issued in Kansas City, MO, on December 19, 2002.
Herman J. Lyons, Jr.,
Manager, Air Traffic Division, Central Region.

[FR Doc. 03-62 Filed 1-2-03; 8:45 am]

BILLING CODE 4910-13-M